DEPARTMENT OF DEFENSE

Department of the Air Force

Proposed Collection; Comment Request

AGENCY: Department of the Air Force, DoD.

ACTION: Notice.

In compliance with Section 3502(c)(2)(A) of the Paperwork Reduction Act of 1995, the Associate Director for Civil Aviation, Directorate of Operations and Training, Deputy Chief of Staff for Air and Space Operations, announces the proposed reinstatement of a public information collection and seeks public comment on the provisions thereof. Comments are invited on: (a) The accuracy of the agency's estimate of the burden of the proposed information collection; (b) ways to enhance the quality, utility, and clarity of the information to be collected; and (c) ways to minimize the burden of the information collection on respondents, including through the use of automated collection techniques or other forms of information technology.

DATES: Consideration will be given to all comments received by November 13, 2000.

ADDRESSES: Written comments and recommendations on the proposed information collection should be sent to HQ USAF/XOO-CA, 1480 Air Force Pentagon, Washington, DC 20330-1480.

FOR FURTHER INFORMATION CONTACT: To request more information on this proposed information collection or to obtain a copy of the proposal and associated collection instruments, please write to the address above or call (703) 697-1796.

Title, Associated Form, and OMB Number: Civil Aircraft Certificate of Insurance, DD Form 2400, OMB Number 0701-0050; Civil Aircraft Landing Permit, DD Form 2401, OMB Number 0701-0050; and DD Form 2402, Civil Aircraft Hold Harmless Agreement, OMB Number 0701-0050.

Needs and Uses: The collection of information is necessary to ensure that the security and operational integrity of military airfields are maintained; to identify the aircraft operator and the aircraft to be operated; to avoid competition with the private sector by establishing the purpose for use of military airfields; and to ensure the U.S. Government is not held liable if the civil aircraft becomes involved in an accident or incident while using military airfields, facilities, and services.

Affected Public: Civil aircraft owners/operators.

Annual Burden Hours: 1,800.

Number of Respondents: 3,600.

Responses per Respondent: 1.

Average Burden for Respondents: 30 Minutes.

Frequency: 1.

Annual Responses: 3,600.

SUPPLEMENTARY INFORMATION: None.

Janet A. Long,
Air Force Federal Register Liaison Officer.

[FR Doc. 00-23622 Filed 9-13-00; 8:45 am]

BILLING CODE 5001-05-P